DEPARTMENT OF COMMERCE

International Trade Administration

[A-533-843]

Certain Lined Paper Products From India: Notice of Final Results of Antidumping Duty Administrative Review

AGENCY: Import Administration, International Trade Administration, Department of Commerce.

SUMMARY: On October 7, 2011, the Department of Commerce (the Department) published in the Federal Register the preliminary results of the antidumping duty administrative review for certain lined paper products from India (CLPP).¹ This review covers 35 manufacturers and exporters of the subject merchandise,² including Navneet Publications (India) Limited (Navneet) and Riddhi Enterprises (Riddhi), for the period September 1, 2009, through August 31, 2010. As a result of our analysis of the comments received, these final results differ from the Preliminary Results. On February 3, 2012, the Department extended the final results of this review from February 6, 2012, to March 5, 2012.³

¹ See Certain Lined Paper Products From India: Notice of Preliminary Results of Antidumping Duty Administrative Review, 76 FR 62343 (October 7, 2011) (Preliminary Results).

² The Department received a timely request to conduct an administrative review of the following 35 companies: Abhinav Paper Products Pvt. Ltd.; American Scholar, Inc. and/or I-Scholar; Ampoules & Vials Mfg. Co. Ltd.; AR Printing & Packaging (India) Pvt.; Bafna Exports; Cello International Pvt. Ltd. (M/S Cello Paper Products); Corporate Stationery Pvt. Ltd.; Creative Divya; D.D International; Exel India (Pvt.) Ltd.; Exmart International Pvt. Ltd.; Fatechand Mahendrakumar; FFI International; Freight India Logistics Pvt. Ltd.; International Greetings Pvt. Ltd.; Kejriwal Paper Ltd., and Kejriwal Exports; Lodha Offset Limited; Magic International Pvt Ltd.; Marigold ExIm Pvt. Ltd.; Marisa International; Navneet Publications (India) Ltd.; Orient Press Ltd.; Paperwise Inc.; Pioneer Stationery Pvt. Ltd.; Premier Exports; Rajvansh International; Riddhi Enterprises; SAB International; Sar Transport Systems; Seet Kamal International; Sonal Printers Pvt Ltd; Super Impex; Swati Growth Funds Ltd.; V & M; and Yash Laminates.

³ See Certain Lined Paper Products From India: Notice of Extension of Time Limit for the Final Results of Antidumping Duty Administrative Review, 77 FR 5486 (February 3, 2012).

For our final results, we continue to find that Navneet and Riddhi have made sales of subject merchandise at less than normal value (NV). In addition, based on these final results for Navneet and Riddhi, we have determined that the 33 remaining non-selected companies will receive the weighted-average non-selected respondent rate as calculated in these final results.

DATES: Effective Date: March 13, 2012.

FOR FURTHER INFORMATION CONTACT: Stephanie Moore (Navneet) and George McMahon (Riddhi), AD/CVD Operations, Office 3, Import Administration, International Trade Administration, U.S. Department of Commerce, 14th Street and Constitution Avenue NW., Washington, DC 20230; telephone: (202) 482-3692, (202) 482-1167, respectively.

SUPPLEMENTARY INFORMATION:

Comments From Interested Parties

We invited parties to comment on our Preliminary Results. Riddhi submitted a case brief on November 4, 2011, and the petitioner and Navneet submitted case briefs on November 7, 2011, respectively. On November 14, 2011, Navneet filed a rebuttal brief. On November 15, 2011, the petitioner filed a rebuttal brief. The petitioner filed a letter on December 14, 2011, requesting that the Department reject Navneet's rebuttal brief claiming it included untimely filed new factual information. The Department found that Navneet did in fact, include certain untimely filed factual information in its rebuttal brief and rejected this brief on December 16, 2011.⁴ Pursuant to the Department's letter of December 16, 2011, Navneet re-filed its rebuttal brief on December 23, 2011, to exclude the untimely filed factual information.⁵

⁴ See the Department's letter to Navneet, titled “Rejection of Rebuttal Brief with Untimely Filed New Factual Information,” dated December 16, 2011; see also Memo from George McMahon to the File titled, “Rejection of Submission Due to Untimely Filed New Factual Information,” dated December 16, 2011.

⁵ Pursuant to 19 CFR 351.301(b) and (c), parties in this administrative review may only file factual information (1) up to 140 days after the last day of the anniversary month of the review, (2) in response to Departmental requests, or (3) within 10 days after the submission of factual information by another party pursuant to the 140-day deadline or a Departmental request. Accordingly, based on these rules, new factual information is not permitted in case and rebuttal briefs. See, e.g., Stainless Steel Bar from India: Final Results of the Antidumping Duty Administrative Review, and Revocation of the Order, in Part, 76 FR 56401, 56402 (September 13, 2011).

Scope of the Order

The scope of this order includes certain lined paper products, typically school supplies (for purposes of this scope definition, the actual use of or labeling these products as school supplies or non-school supplies is not a defining characteristic) composed of or including paper that incorporates straight horizontal and/or vertical lines on ten or more paper sheets (there shall be no minimum page requirement for loose leaf filler paper) including but not limited to such products as single- and multi-subject notebooks, composition books, wireless notebooks, loose leaf or glued filler paper, graph paper, and laboratory notebooks, and with the smaller dimension of the paper measuring 6 inches to 15 inches (inclusive) and the larger dimension of the paper measuring 8¾ inches to 15 inches (inclusive). Page dimensions are measured size (not advertised, stated, or “tear-out” size), and are measured as they appear in the product (i.e., stitched and folded pages in a notebook are measured by the size of the page as it appears in the notebook page, not the size of the unfolded paper). However, for measurement purposes, pages with tapered or rounded edges shall be measured at their longest and widest points. Subject lined paper products may be loose, packaged or bound using any binding method (other than case bound through the inclusion of binders board, a spine strip, and cover wrap). Subject merchandise may or may not contain any combination of a front cover, a rear cover, and/or backing of any composition, regardless of the inclusion of images or graphics on the cover, backing, or paper. Subject merchandise is within the scope of this order whether or not the lined paper and/or cover are hole punched, drilled, perforated, and/or reinforced. Subject merchandise may contain accessory or informational items including but not limited to pockets, tabs, dividers, closure devices, index cards, stencils, protractors, writing implements, reference materials such as mathematical tables, or printed items such as sticker sheets or miniature calendars, if such items are physically incorporated, included with, or attached to the product, cover and/or backing thereto.

Specifically excluded from the scope of this order are:

• Unlined copy machine paper;

• Writing pads with a backing (including but not limited to products commonly known as “tablets,” “note pads,” “legal pads,” and “quadrille pads”), provided that they do not have a front cover (whether permanent or removable). This exclusion does not apply to such writing pads if they consist of hole-punched or drilled filler paper;

• Three-ring or multiple-ring binders, or notebook organizers incorporating such a ring binder provided that they do not include subject paper;

• Index cards;

• Printed books and other books that are case bound through the inclusion of binders board, a spine strip, and cover wrap;

• Newspapers;

• Pictures and photographs;

• Desk and wall calendars and organizers (including but not limited to such products generally known as “office planners,” “time books,” and “appointment books”);

• Telephone logs;

• Address books;

• Columnar pads & tablets, with or without covers, primarily suited for the recording of written numerical business data;

• Lined business or office forms, including but not limited to: pre-printed business forms, lined invoice pads and paper, mailing and address labels, manifests, and shipping log books;

• Lined continuous computer paper;

• Boxed or packaged writing stationary (including but not limited to products commonly known as “fine business paper,” “parchment paper,” and “letterhead”), whether or not containing a lined header or decorative lines;

• Stenographic pads (“steno pads”), Gregg ruled (“Gregg ruling” consists of a single- or double-margin vertical ruling line down the center of the page. For a six-inch by nine-inch stenographic pad, the ruling would be located approximately three inches from the left of the book), measuring 6 inches by 9 inches;

Also excluded from the scope of this order are the following trademarked products:

• Fly™ lined paper products: A notebook, notebook organizer, loose or glued note paper, with papers that are printed with infrared reflective inks and readable only by a Fly™ pen-top computer. The product must bear the valid trademark Fly™ (products found to be bearing an invalidly licensed or used trademark are not excluded from the scope).

• Zwipes™: A notebook or notebook organizer made with a blended polyolefin writing surface as the cover and pocket surfaces of the notebook, suitable for writing using a specially-developed permanent marker and erase system (known as a Zwipes™ pen). This system allows the marker portion to mark the writing surface with a permanent ink. The eraser portion of the marker dispenses a solvent capable of solubilizing the permanent ink allowing the ink to be removed. The product must bear the valid trademark Zwipes™ (products found to be bearing an invalidly licensed or used trademark are not excluded from the scope).

• FiveStar®Advance™: A notebook or notebook organizer bound by a continuous spiral, or helical, wire and with plastic front and rear covers made of a blended polyolefin plastic material joined by 300 denier polyester, coated on the backside with PVC (poly vinyl chloride) coating, and extending the entire length of the spiral or helical wire. The polyolefin plastic covers are of specific thickness; front cover is 0.019 inches (within normal manufacturing tolerances) and rear cover is 0.028 inches (within normal manufacturing tolerances). Integral with the stitching that attaches the polyester spine covering, is captured both ends of a 1″ wide elastic fabric band. This band is located 2⅜″ from the top of the front plastic cover and provides pen or pencil storage. Both ends of the spiral wire are cut and then bent backwards to overlap with the previous coil but specifically outside the coil diameter but inside the polyester covering. During construction, the polyester covering is sewn to the front and rear covers face to face (outside to outside) so that when the book is closed, the stitching is concealed from the outside. Both free ends (the ends not sewn to the cover and back) are stitched with a turned edge construction. The flexible polyester material forms a covering over the spiral wire to protect it and provide a comfortable grip on the product. The product must bear the valid trademarks FiveStar®Advance™ (products found to be bearing an invalidly licensed or used trademark are not excluded from the scope).

• FiveStar Flex™: A notebook, a notebook organizer, or binder with plastic polyolefin front and rear covers joined by 300 denier polyester spine cover extending the entire length of the spine and bound by a 3-ring plastic fixture. The polyolefin plastic covers are of a specific thickness; front cover is 0.019 inches (within normal manufacturing tolerances) and rear cover is 0.028 inches (within normal manufacturing tolerances). During construction, the polyester covering is sewn to the front cover face to face (outside to outside) so that when the book is closed, the stitching is concealed from the outside. During construction, the polyester cover is sewn to the back cover with the outside of the polyester spine cover to the inside back cover. Both free ends (the ends not sewn to the cover and back) are stitched with a turned edge construction. Each ring within the fixture is comprised of a flexible strap portion that snaps into a stationary post which forms a closed binding ring. The ring fixture is riveted with six metal rivets and sewn to the back plastic cover and is specifically positioned on the outside back cover. The product must bear the valid trademark FiveStar Flex™ (products found to be bearing an invalidly licensed or used trademark are not excluded from the scope).

Merchandise subject to this order is typically imported under headings 4810.22.5044, 4811.90.9050, 4811.90.9090, 4820.10.2010, 4820.10.2020, 4820.10.2030, 4820.10.2040, 4820.10.2050, 4820.10.2060, and 4820.10.4000 of the Harmonized Tariff Schedule of the United States (HTSUS). The HTSUS headings are provided for convenience and customs purposes; however, the written description of the scope of the order is dispositive.

Period of Review

The period of review (POR) is September 1, 2009, through August 31, 2010.

Analysis of Comments Received

All issues raised in the case and rebuttal briefs by parties to this administrative review are addressed in the “Issues and Decision Memorandum for the Final Results in the Fourth Antidumping Duty Order Administrative Review of Certain Lined Paper Products from India (2009-2010),” from Christian Marsh, Deputy Assistant Secretary for Antidumping and Countervailing Duty Operations, to Paul Piquado, Assistant Secretary for Import Administration, (“Issues and Decision Memorandum”), dated concurrently with this notice and which is hereby adopted by this notice. A list of the issues which parties have raised, and to which we have responded in the Issues and Decision Memorandum, is attached to this notice as an Appendix. The Issues and Decision Memorandum is a public document and is on file electronically via Import Administration's Antidumping and Countervailing Duty Centralized Electronic Service System (“IA ACCESS”). IA ACCESS is available in the Central Records Unit, main Commerce Building, Room 7046. In addition, a complete version of the Issues and Decision Memorandum can be accessed directly on the Web at http://ia.ita.doc.gov/frn/. The signed Issues and Decision Memorandum and electronic version of the Issues and Decision Memorandum are identical in content.

Changes Since the Preliminary Results

Based on comments received from the interested parties, we have made company-specific changes to Navneet's margin calculation. See Issues and Decision Memorandum and the Analysis Memorandum to File through James Terpstra, Program Manager, from Stephanie Moore for Navneet Regarding “Final Results of Antidumping Duty Administrative Review of Certain Lined Paper Products from India,” dated concurrent with this notice, for further details.

Final Results of Review:

We determine that the following weighted-average margins exist:

Manufacturer/Exporter | Weighted average margin (percent)
Navneet Publications (India) Ltd | 2.70
Riddhi Enterprises | 3.58

Review-Specific Average Rate ⁶ Applicable to the 33 Non-Selected Companies Subject to This Review:

⁶ This rate is a weighted-average percentage margin (calculated based on the publicly ranged U.S. quantities of the two reviewed companies with an affirmative dumping margin) for the period September 1, 2009, through August 31, 2010. See Memorandum to the File, titled, “Certain Lined Paper Products from India: Margin for Respondents Not Selected for Individual Examination,” from George McMahon and Stephanie Moore, Case Analysts, through James Terpstra, Program Manager, dated concurrent with this notice.

Manufacturer/Exporter | Weighted average margin (percent)
Abhinav Paper Products Pvt. Ltd | 3.05
American Scholar, Inc. and/or I-Scholar | 3.05
Ampoules & Vials Mfg. Co. Ltd | 3.05
AR Printing & Packaging (India) Pvt | 3.05
Bafna Exports | 3.05
Cello International Pvt. Ltd. (M/S Cello Paper Products) | 3.05
Corporate Stationary Pvt. Ltd | 3.05
Creative Divya | 3.05
D.D International | 3.05
Exel India (Pvt.) Ltd | 3.05
Exmart International Pvt. Ltd | 3.05
Fatechand Mahendrakumar | 3.05
FFI International | 3.05
Freight India Logistics Pvt. Ltd | 3.05
International Greetings Pvt. Ltd | 3.05
Kejriwal Paper Ltd., and Kejriwal Exports | 3.05
Lodha Offset Limited | 3.05
Magic International | 3.05
Marigold ExIm Pvt. Ltd | 3.05
Marisa International | 3.05
Orient Press Ltd | 3.05
Paperwise Inc | 3.05
Pioneer Stationery Pvt. Ltd | 3.05
Premier Exports | 3.05
Rajvansh International | 3.05
SAB International | 3.05
Sar Transport Systems | 3.05
Seet Kamal International | 3.05
Super Impex | 3.05
Sonal Printers Pvt Ltd | 3.05
Swati Growth Funds Ltd | 3.05
V & M | 3.05
Yash Laminates | 3.05

Assessment Rates

Pursuant to these final results, the Department has determined, and U.S. Customs and Border Protection (CBP) shall assess, antidumping duties on all appropriate entries. Pursuant to 19 CFR 351.212(b)(1), we calculated importer-specific ad valorem duty assessment rates based on the ratio of the total amount of the antidumping margins calculated for the examined sales to the total entered value of the examined sales for that importer. Where the assessment rate is above de minimis, we will instruct CBP to assess duties on all entries of subject merchandise by that importer. Pursuant to 19 CFR 351.106(c)(2), we will instruct CBP to liquidate without regard to antidumping duties any entries for which the assessment rate is de minimis (i.e., less than 0.50 percent). The Department intends to issue assessment instructions directly to CBP 15 days after publication of the final results of this review.

The Department clarified its “automatic assessment” regulation on May 6, 2003. See Antidumping and Countervailing Duty Proceedings: Assessment of Antidumping Duties, 68 FR 23954, (May 6, 2003) (Assessment Policy Notice). This clarification applies to POR entries of subject merchandise produced by companies examined in this review (i.e., companies for which a dumping margin was calculated) where the companies did not know that their merchandise was destined for the United States. In such instances, we will instruct CBP to liquidate unreviewed entries at the 3.91 percent all-others rate for India if there is no company-specific rate for an intermediary company(ies) involved in the transaction. See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (Lined Paper Orders). See also Assessment Policy Notice, 68 FR at 23954.

Cash Deposit Requirements

The following deposit requirements will be effective upon publication of these final results for all shipments of CLPP from India entered, or withdrawn from warehouse, for consumption on or after the publication date of the final results of this administrative review, as provided by section 751(a) of the Act: (1) For companies covered by this review, the cash deposit rate will be the rates listed above; (2) for previously reviewed or investigated companies other than those covered by this review, the cash deposit rate will be the company-specific rate established for the most recent period; (3) if the exporter is not a firm covered in this review, a prior review, or the less-than-fair-value investigation, but the producer is, the cash deposit rate will be the rate established for the most recent period for the manufacturer of the subject merchandise; and (4) if neither the exporter nor the producer is a firm covered in this review, a prior review, or the investigation, the cash deposit rate will be 3.91 percent, the all-others rate established in the less-than-fair-value investigation. These deposit requirements, when imposed, shall remain in effect until further notice.

Reimbursement of Duties

This notice also serves as a final reminder to importers of their responsibility under 19 CFR 351.402(f) to file a certificate regarding the reimbursement of antidumping and/or countervailing duties prior to liquidation of the relevant entries during this review period. Failure to comply with this requirement could result in the presumption that reimbursement of antidumping and/or countervailing duties occurred and the subsequent increase in antidumping duties by the amount of antidumping and/or countervailing duties reimbursed.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and the terms of an APO is a sanctionable violation.

We are issuing and publishing this notice in accordance with sections 751(a)(1) and 777(i)(1) of the Act.

Dated: March 5, 2012.
Paul Piquado,
Assistant Secretary for Import Administration.

APPENDIX I

List of Comments in the Accompanying Issues and Decision Memorandum:

A. General Issue

Comment 1: Treatment of Negative Dumping Margins (Zeroing)

B. Company Specific Issues

Comment 2: Whether to use Navneet's Purchase Order Date for its U.S. Sales

Comment 3: Whether to Recalculate Navneet's Imputed Credit Expenses

Comment 4: Whether to Adjust Navneet's Cost of Manufacturing

Comment 5: Treatment of Navneet's Canvassing Expenses as a Direct Selling Expense

Comment 6: Whether to make an Excise Tax Adjustment for Navneet

Comment 7: Whether to Modify Navneet's Cost Calculation Data

[FR Doc. 2012-6082 Filed 3-12-12; 8:45 am]

BILLING CODE 3510-DS-P